DEPARTMENT OF TRANSPORTATION

Federal Aviation Administration

Notice of Intent To Rule on Application To Impose a Passenger Facility Charge (PFC) at Fort Lauderdale International Airport, Fort Lauderdale, FL

AGENCY: Federal Aviation Administration (FAA), DOT.

ACTION: Notice of intent to rule on application.

SUMMARY: The FAA proposes to rule and invites public comment on the application to impose a PFC at Fort Lauderdale International Airport under the provisions of the Aviation Safety and Capacity Expansion Act of 1990 (Title IX of the Omnibus Budget Reconciliation Act of 1990) (Pub. L. 101-508) and part 158 of the Federal Aviation Regulations (14 CFR part 158).

DATES: Comments must be received on or before May 23, 2005.

ADDRESSES: Comments on this application may be mailed or delivered in triplicate to the FAA at the following address:

Orlando Airports District Office, 5950 Hazeltine National Drive, Suite 400, Orlando, Florida 32822.

In addition, one copy of any comments submitted to the FAA must be mailed or delivered to Mr. Tom Jargiello, Director of Aviation of the Broward County Aviation Department at the following address: 320 Terminal Drive, Fort Lauderdale, Florida 33315.

Air carriers and foreign air carriers may submit copies of written comments previously provided to the Broward County Aviation Department under § 158.23 of part 158.

FOR FURTHER INFORMATION CONTACT: Mr. Miguel Martinez, Program Manager, Orlando Airports District Office, 5950 Hazeltine National Drive, Suite 400, Orlando, Florida 32822, (407) 812-6331, extension 123. The application may be reviewed in person at this same location.

SUPPLEMENTARY INFORMATION: The FAA proposes to rule and invites public comment on the application to impose a PFC at Fort Lauderdale International Airport under the provisions of the Aviation Safety and Capacity Expansion Act of 1990 (Title IX of the Omnibus Budget Reconciliation Act of 1990) (Pub. L. 101-508) and part 158 of the Federal Aviation Regulations (15 CFR part 158).

On April 14, 2005, the FAA determined that the application to impose a PFC submitted by Broward County Aviation Department was substantially complete within the requirements of section 158.25 of part 158. The FAA will approve or disapprove the application, in whole or in part, no later than July 16, 2005.

The following is a brief overview of the application.

PFC Application No.: 05-07-I-00-FLL.

Level of the proposed PFC: $4.50.

Proposed charge effective date: March 1, 2010.

Proposed charge expiration date: January 1, 2011.

Total estimated net PFC revenue: $33,000,000.

Brief description of proposed project(s): Noise Mitigation Bank (Property Acquisition, Residential Soundproofing, etc.)

Class or classes of air carriers which the public agency has requested not be required to collect PFCs: Air Taxi/Commercial Operators (ATCO) filing FAA form 1800-31.

Any person may inspect the application in person at the FAA office listed above under FOR FURTHER INFORMATION CONTACT.

In addition, any person may, upon request, inspect the application, notice and other documents germane to the application in person at the Broward County Aviation Department.

Issued in Orlando, Florida on April 14, 2005.
Bart Vernace,
Acting Manager, Orlando Airports District Office, Southern Region.

[FR Doc. 05-7975 Filed 4-20-05; 8:45 am]

BILLING CODE 4910-13-M